DEPARTMENT OF COMMERCE

National Oceanic and Atmospheric Administration

RIN 0648-XA057

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council) and its River Herring and Shad Committee, its Joint Spiny Dogfish Committee, and its Executive Committee will hold public meetings.

DATES: The meetings will be held on Monday, December 13, 2010 through Thursday, December 16, 2010. See SUPPLEMENTARY INFORMATION for specific dates and times.

ADDRESSES: The meetings will be held at the Hilton Virginia Beach Oceanfront Hotel, 3001 Atlantic Avenue, Virginia Beach, VA 23451; telephone: (757) 213-3000.

Council address: Mid-Atlantic Fishery Management Council, 800 N. State St., Suite 201, Dover, DE 19901-3910; telephone: (302) 674-2331.

FOR FURTHER INFORMATION CONTACT: Dr. Christopher Moore, Executive Director, Mid-Atlantic Fishery Management Council; telephone: (302) 674-2331 ext. 255.

SUPPLEMENTARY INFORMATION:

Monday, December 13, 2010

9 a.m. until 12 noon—The River Herring and Shad Committee will meet.

1 p.m. until 5 p.m.—There will be a Habitat-Ecosystems Workshop.

Tuesday, December 14, 2010

8 a.m. until 5 p.m.—The Habitat-Ecosystems Workshop will continue.

Wednesday, December 15, 2010

8:30 a.m.—The Council will convene.

8:30 a.m. until 3 p.m.—The Council will finalize summer flounder, scup, and black sea bass recreational management measures for 2011 in conjunction with the Atlantic States Marine Fisheries Commission's (ASMFC) Summer Flounder, Scup, and Black Sea Bass Boards.

3 p.m. until 3:30 p.m.—The Council will receive an Overview of the Ocean Observatories Initiative.

3:30 p.m. until 4:30 p.m.—The Joint Spiny Dogfish Committee will meet.

4:30 p.m. until 5:30 p.m.—There will be a Scoping Hearing on Monkfish Amendment 6.

Thursday, December 16, 2010

8 a.m. until 9 a.m.—The Executive Committee will meet.

9 a.m.—The Council will convene.

9 a.m. to 9:30 a.m.—There will be a Briefing on Proposed Listing of Atlantic Sturgeon under Endangered Species Act (ESA).

9:30 a.m. until 1:30 p.m.—The Council will convene to conduct its regular Business Session, receive Organizational Reports, Council Liaison Reports, the Executive Director's Report, receive a report on the status of MAFMC's FMPs, Committee Reports, and any continuing and/or new business.

Agenda items by day for the Council's Committees and the Council itself are:

On Monday, December 13—The River Herring and Shad Committee will review Squid, Mackerel, and Butterfish Amendment 14 FMAT (Fishery Management Action Team) input on management integration issues and discuss the next steps. The Habitat-Ecosystems Workshop will include a presentation by Jennifer Lukens on Implementing the President's National Ocean Policy and there will be a Policy/Management Panel discussion.

On Tuesday, December 14—the Habitat-Ecosystems Workshop will continue with Tom Noji discussing the NMFS Habitat Assessment Improvement Plan (HAIP) and a Science Panel discussion. Mike Snyder will discuss the Mid-Atlantic Regional Council on the Oceans (MARCO) and there will be a Stakeholder Panel discussion.

On Wednesday, December 15—The Council in conjunction with the Atlantic States Marine Fisheries Commission's (ASMFC) Summer Flounder, Scup, and Black Sea Bass Board will review and discuss the Monitoring Committee's recommendations and the Advisory Panel's recommendations on summer flounder, scup, and black sea bass management measures, and develop and approve management measures for the 2011 summer flounder, scup, and black sea bass recreational fishery. The Council will receive an Overview of the Oceans Observatories Initiative (OOI) from Jean McGovern, National Science Foundation (OOI) Program Director. The Joint Spiny Dogfish Committee will finalize issues to be resolved in Amendment 3. A Scoping Hearing for Monkfish Amendment 6 will be held regarding catch shares.

On Thursday, December 16—The Executive Committee will discuss the Visioning project update, consider updating priorities to accommodate a bio-economic analysis of the scup allocations, discuss the Council Communications Plan options, update the Advisory Panel Fishery Performance Report development, review the working group's recommendations for webinar compensation and travel policy to include in the Council's Standard Operating Practices and Procedures (SOPPs). The Council will be briefed on the Proposed Listing of Atlantic Sturgeon under ESA by the NMFS Office of Protected Resources. The Council will hold its regular Business Session to approve the June and October 2010 minutes and address any outstanding actions from the October 2010 meeting, receive Organizational Reports, Liaison Reports, the Executive Director's Report, an update on the status of the Council's FMPs, Committee Reports, and any continuing and/or new business.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aid should be directed to M. Jan Saunders, (302-526-5251), at least 5 days prior to the meeting date.

Dated: November 22, 2010.
William D. Chappell,
Acting Director, Office of Sustainable Fisheries, National Marine Fisheries Service.

[FR Doc. 2010-29728 Filed 11-24-10; 8:45 am]

BILLING CODE 3510-22-P